ENVIRONMENTAL PROTECTION AGENCY

[FRL-7552-4]

Investigator Initiated Grants for Fellowships: Request for Applications

AGENCY: Environmental Protection Agency.

ACTION: Notice of requests for applications.

SUMMARY: This notice provides information on the availability of fiscal year 2004 fellowship program announcements, in which the areas of research interest, eligibility and submission requirements, evaluation criteria, and implementation schedules are set forth. Grants will be competitively awarded following peer review.

DATES: Receipt dates vary depending on the specific research areas within the solicitations.

SUPPLEMENTARY INFORMATION: In its Requests for Applications (RFA) the U.S. Environmental Protection Agency invites fellowship applications in the following areas of special interest to its mission: (1) Fall 2004 EPA Science to Achieve Results (STAR) Fellowships for Graduate Study, (2) Fall 2004 Minority Academic Institutions (MAI) Fellowships for Graduate Study, and (3) Fall 2004 Minority Academic Institutions (MAI) Undergraduate Student Fellowships.

Contacts: (1) Fall 2004 EPA Science to Achieve Results (STAR) Fellowships for Graduate Study, Virginia Broadway (phone: 202-564-6923, e-mail: broadway.virginia@epa.gov), (2) Fall 2004 Minority Academic Institutions (MAI) Fellowships for Graduate Study, Virginia Broadway (phone: 202-564-6923, e-mail: broadway.virginia@epa.gov), and (3) Fall 2004 Minority Academic Institutions (MAI) Undergraduate Student Fellowships, Georgette Boddie, (phone: 202-564-6926, e-mail: boddie.georgette@epa.gov).

FOR FURTHER INFORMATION CONTACT: The complete program announcement can be accessed on the Internet at http://www.epa.gov/ncer, under “announcements.” The required forms for applications with instructions are accessible on the Internet at http://www.epa.gov/ncer/fellow/. Forms may be printed from this site.

Dated: August 27, 2003.
John C. Puzak,
Acting Director, National Center for Environmental Research.

[FR Doc. 03-22451 Filed 9-2-03; 8:45 am]

BILLING CODE 6560-50-P